ENVIRONMENTAL PROTECTION AGENCY

[FRL-9929-19-Region-10]

Clean Air Act Operating Permit Program; Petitions for Objection to State Operating Permit for the U.S. Department of Energy-Hanford Operations, Benton County, Washington

AGENCY: Environmental Protection Agency (EPA).

ACTION: Notice of final action.

SUMMARY: Pursuant to Clean Air Act (CAA) Section 505(b)(2) and 40 CFR 70.8(d), the Environmental Protection Agency (EPA) Administrator signed an Order, dated May 29, 2015, partially granting and partially denying two petitions filed by Bill Green of Richland, Washington (dated April 23, 2013, and April 21, 2014) asking the EPA to object to the title V operating permit (Permit No. 00-05-006, Renewal 2 and Permit No. 00-05-006, Renewal 2, Revision A) issued by the Washington State Department of Ecology (Ecology) to the U.S. Department of Energy-Hanford Operations (DOE) relating to the Hanford site located in south central Washington. Sections 307(b) and 505(b)(2) of the CAA provide that a petitioner may ask for judicial review by the United States Court of Appeals for the appropriate circuit of those portions of the Order that denies objections raised in the petitions.

DATES: Petitions for review of this Order must be filed by September 8, 2015, pursuant to section 307(b) of the CAA.

ADDRESSES: You may review copies of the final Order, the petitions, and other supporting information during normal business hours at EPA Region 10, 1200 Sixth Avenue, Seattle, Washington. If you wish to examine these documents, you should make an appointment at least 24 hours before the visiting day. Additionally, the final Order is available electronically at: http://www.epa.gov/region07/air/title5/petitiondb/petitions/hanford_response2014.pdf.

FOR FURTHER INFORMATION CONTACT: Don Dossett at telephone number: (206) 553-1783, email address: dossett.donald@epa.gov, or the above EPA Region 10 address.

SUPPLEMENTARY INFORMATION: The CAA affords the EPA a 45-day period to review, and object to, as appropriate, a title V operating permit proposed by a state permitting authority. Section 505(b)(2) of the CAA authorizes any person to petition the EPA Administrator, within 60 days after the expiration of this review period, to object to a title V operating permit if the EPA has not done so. Petitions must be based only on objections to the permit that were raised with reasonable specificity during the public comment period provided by the state, unless the petitioner demonstrates that it was impracticable to raise these issues during the comment period or that the grounds for the objection or other issues arose after this period.

The claims are described in detail in Section IV of the Order. In summary, the issues raised are that: (1) The structure of the Hanford Title V Permit does not provide Ecology the authority to issue a permit that assures compliance with all applicable requirements, in particular, 40 CFR part 61, subpart H (Subpart H) relating to radionuclide air emissions (radionuclides); (2) the structure of the Hanford Title V Permit does not provide Ecology with authority to enforce the portions of the Hanford Title V Permit relating to Subpart H; (3) Ecology did not comply with the requirements for public participation in issuing the Hanford Title V Permit; (4) the permit issuance procedures for the Hanford Title V Permit prevent access to judicial review; (5) the statement of basis for the Hanford Title V Permit related to radionuclides is inadequate; and (6) the Hanford Title V Permit does not include all applicable CAA Section 112 requirements for radionuclides.

The EPA's rationale for partially granting and partially denying the claims raised in the petitions is described in the Order.

Dated: June 22, 2015.
Dennis J. McLerran,
Regional Administrator, EPA Region 10.

[FR Doc. 2015-16920 Filed 7-9-15; 8:45 am]

BILLING CODE 6560-50-P